DEPARTMENT OF JUSTICE

Notice of Lodging of Proposed Consent Decree Under the Comprehensive Environmental Response, Compensation, and Liability Act (CERCLA), the Clean Water Act (CWA), and the Oil Pollution Act (OPA) and Notice of Availability of Draft Restoration Plan/Environmental Assessment of Restoration Project Incorporated Into Proposed Consent Decree

On March 12, 2024, the Department of Justice lodged a proposed Consent Decree with the United States District Court for the Western District Washington in the lawsuit entitled United States of America, State of Washington, Muckleshoot Indian Tribe, and Suquamish Indian Tribe of the Port Madison Reservation v. General Recycling of Washington, LLC, Civil Action No. 2:24-cv-00329, Docket No. 3-1.

The complaint asserts claims against General Recycling of Washington, LLC, The David J. Joseph Company, and Nucor Steel Seattle, Inc. (Defendants) for natural resource damages by the United States on behalf of the National Oceanic and Atmospheric Administration and the Department of the Interior; the State of Washington; the Muckleshoot Indian Tribe; and the Suquamish Indian Tribe of the Port Madison Reservation (collectively, the Trustees) pursuant to section 107(a) of the Comprehensive Environmental Response, Compensation, and Liability Act (CERCLA), 42 U.S.C. 9607(a); section 311 of the Clean Water Act (CWA), 33 U.S.C. 1321; section 1002(b) of the Oil Pollution Act (OPA), 33 U.S.C. 2702(b); and the Washington Model Toxics Control Act (MTCA), RCW 70A.305.

The proposed consent decree resolves claims alleged against Defendants for natural resource damages caused by releases of hazardous substances and discharges of oil from the General Recycling facility, currently owned and/or operated by General Recycling of Washington, LLC and Nucor Steel Seattle, Inc., and formerly operated by The David J. Joseph Company, to the Lower Duwamish River in and near Seattle, Washington. The settlement requires Defendants to construct, monitor, and maintain a habitat restoration project at the facility, creating nearly three acres of off-channel habitat for injured natural resources. The settlement also requires Defendants to pay a total of $360,558.12 for their equitable share of assessment costs incurred by the Trustees. The Defendants will receive covenants not to sue under the statutes listed in the complaint and proposed consent decree for specified natural resource damages.

The Trustees have developed a Draft Restoration Plan and Environmental Assessment (“RP/EA”) for the habitat restoration project, incorporated into the proposed consent decree. The Draft RP/EA proposes to select the habitat restoration project as one of the projects to address injuries to natural resources in the Lower Duwamish River.

The publication of this notice opens a period for public comment on the proposed consent decree and the Draft RP/EA. Comments on the proposed consent decree should be addressed to the Assistant Attorney General, Environmental and Natural Resources Division, and should refer to United States of America, et al. v. General Recycling of Washington, LLC, et al., D.J. Ref. No. 90-11-3-07227/14. All comments must be submitted no later than thirty (30) days after the publication date of this notice. Comments may be submitted either by email or mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed consent decree may be examined and downloaded at this Justice Department website: https://www.justice.gov/enrd/consent-decrees. If you require assistance accessing the proposed consent decree, you may request assistance by email or by mail to the addresses provided above for submitting comments.

The publication of this notice also opens a period for public comment on the Draft RP/EA. The Trustees will receive comments relating to the Draft RP/EA for a period of thirty (30) days from the date of this publication. A copy of the Draft RP/EA is available electronically at https://pub-data.diver.orr.noaa.gov/admin-record/5501/LDR%20General%20Recycling%20Draft%20RP%20EA%20for%20Public%20Review%20030624.pdf.

A copy of the Draft RP/EA may also be obtained by mail from: Lower Duwamish River NRDA, Attn: Terill Hollweg, National Oceanic and Atmospheric Administration, 7600 Sand Point Way NE, Building 1 (DARC), Seattle, WA 98115.

Please reference: Draft RP/EA related to United States et al. v. General Recycling Consent Decree.

Comments on the draft RP/EA may be submitted electronically to lowerduwamishriver.nrda@noaa.gov. Additionally, written comments on the Draft RP/EA should be addressed to: Lower Duwamish River NRDA, Attn: Terill Hollweg, National Oceanic and Atmospheric Administration, 7600 Sand Point Way NE, Building 1 (DARC), Seattle, WA 98115.

Kathryn C. Macdonald,
Assistant Section Chief, Environmental Enforcement Section, Environment and Natural Resources Division.

[FR Doc. 2024-05659 Filed 3-15-24; 8:45 am]

BILLING CODE 4410-15-P